DEPARTMENT OF TRANSPORTATION

Federal Aviation Administration

14 CFR Part 71

[Airspace Docket No. 99-ASW-33]

Realignment of Jet Route; TX

AGENCY: Federal Aviation Administration (FAA), DOT.

ACTION: Final rule.

SUMMARY: This action realigns Jet Route 25 (J-25) in the vicinity of San Antonio, TX. Specifically, this action realigns J-25 between the Corpus Christi Very High Frequency Omnidirectional Range/Tactical Air Navigation (VORTAC) and the San Antonio VORTAC. The FAA is taking this action to enhance the management of air traffic operations and allow for better utilization of navigable airspace in the San Antonio, TX, area. Additionally, this action corrects the legal description of J-25 by changing the originating point of the jet route and an incorrect radial.

EFFECTIVE DATE: 0901 UTC, August 10, 2000.

FOR FURTHER INFORMATION CONTACT: Bil Nelson, Airspace and Rules Division, ATA-400, Office of Air Traffic Airspace Management, Federal Aviation Administration, 800 Independence Avenue, SW., Washington, DC 20591; telephone: (202) 267-8783.

SUPPLEMENTARY INFORMATION:

Background

As a result of a recent airspace review, the FAA has determined that a segment of J-25, between the Corpus Christi VORTAC and the San Antonio VORTAC, requires realignment to allow for better utilization of the navigable airspace in the San Antonio, TX, area. Interested parties were invited to participate in this rulemaking proceeding by submitting written comments on the proposal to the FAA. No comments were received. Except for editorial changes, and the correction to the originating point of J-25 from “Matamoras, Mexico” to the “INT of the United States/Mexican Border and Brownsville, TX, 221° radial” and the “San Antonio, TX, 174° radials” to the “San Antonio, TX, 166° radials,” this amendment is the same as that proposed in the notice.

The Rule

This amendment to part 71 of the Federal Aviation Regulations (14 CFR part 71) realigns J-25 in the vicinity of San Antonio, TX. This action realigns the affected jet route between the Corpus Christi VORTAC and the San Antonio VORTAC. The FAA is taking this action to enhance the management of air traffic operations and allow for better utilization of navigable airspace in the San Antonio, TX, area. Additionally, this action corrects the legal description of J-25 by changing the originating point of the jet route and an incorrect radial.

Jet routes are published in Paragraph 2004 of FAA Order 7400.9G dated September 1, 1999, and effective September 16, 1999, which is incorporated by reference in 14 CFR 71.1. The jet route listed in this document will be published subsequently in the Order.

The FAA has determined that this regulation only involves an established body of technical regulations for which frequent and routine amendments are necessary to keep them operationally current. It, therefore (1) is not a “significant regulatory action” under Executive Order 12866; (2) is not a “significant rule” under Department of Transportation (DOT) Regulatory Policies and Procedures (44 FR 11034, February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

Paragraph 2004 Jet Routes

* * * * *

J-25 [Revised]

From the INT of the United States/Mexican Border and the Brownsville, TX, 221° radial via Brownsville; INT of the Brownsville 358° and the Corpus Christi, TX, 178° radials; Corpus Christi; INT of the Corpus Christi 311° and the San Antonio, TX, 166° radials; San Antonio; Centex, TX; Waco, TX; Ranger, TX; Tulsa, OK; Kansas City, MO; Des Moines, IA; Mason City, IA; Gopher, MN; Brainerd, MN; to Winnipeg, MB, Canada. The airspace within Canada is excluded. The airspace within Mexico is excluded.

* * * * *

Issued in Washington, DC, on June 7, 2000.
Reginald C. Matthews,
Manager, Airspace and Rules Division.

[FR Doc. 00-14909 Filed 6-13-00; 8:45 am]

BILLING CODE 4910-13-U